DEPARTMENT OF TRANSPORTATION

Office of the Secretary

[DOT-OST-2023-0137]

Advisory Committee on Transportation Equity (ACTE); Notice of Public Meeting; Correction

AGENCY: Office of the Secretary, Department of Transportation.

ACTION: Notice of public meeting; correction

SUMMARY: DOT OST published a document in the Federal Register on November 1, 2023, announcing a meeting of ACTE, which will take place in person at the Hilton Durham, North Carolina. The document did not include the link for members of the public to provide recommendations to members of the ACTE.

FOR FURTHER INFORMATION CONTACT: Sandra Norman, Senior Advisor and Designated Federal Officer, Departmental Office of Civil Rights, U.S. Department of Transportation, 1200 New Jersey Avenue SE, Washington, DC 20590, (804) 836-2893, ACTE@dot.gov. Any ACTE-related request or submissions should be sent via email to the point of contact listed above.

SUPPLEMENTARY INFORMATION:

Correction

In the Federal Register of November 1, 2023, in FR Doc. 2023-24099, on page 75093, update the SUPPLEMENTARY INFORMATION caption to read, in addition to the previously posted content:

Members of the ACTE are requesting members of the public complete the following survey (https://www.surveymonkey.com/r/GZDGXZQ) in order to capture stories, feedback, questions, and concerns that, upon review, will be incorporated into the ACTE Recommendations Report due to the Secretary in June 2024. The deadline to complete the survey is close of business on Friday, November 17, 2023.

Dated: November 9, 2023.
Irene Marion,
Director, Departmental Office of Civil Rights.

[FR Doc. 2023-25364 Filed 11-15-23; 8:45 am]

BILLING CODE 4910-9X-P